DEPARTMENT OF ENERGY

Federal Energy Regulatory Commission

[Project No. 14067-000]

Charles River Energy LLC; Notice of Preliminary Permit Application Accepted for Filing and Soliciting Comments, Motions to Intervene, and Competing Applications

On January 26, 2011, Charles River Energy LLC filed an application for a preliminary permit, pursuant to section 4(f) of the Federal Power Act (FPA), proposing to study the feasibility of the Moody Street Dam Hydroelectric Project (Moody Street Dam Project or project) to be located on the Charles River, in the City of Waltham, in Middlesex County, Massachusetts. The sole purpose of a preliminary permit, if issued, is to grant the permit holder priority to file a license application during the permit term. A preliminary permit does not authorize the permit holder to perform any land-disturbing activities or otherwise enter upon lands or waters owned by others without the owners' express permission.

The proposed run-of-the river, low-hydraulic-head (approximately 10 to 12 feet) project would consist of the following: (1) The existing 169-foot-long earthen, gravity Moody Street Dam, owned and operated by the Commonwealth of Massachusetts; (2) an existing reservoir having a total storage capacity of 2,950 acre-feet; (3) a new 66-inch-diameter, siphon-fed penstock constructed over the dam and housing a 6-blade Gorlov Helical Turbine (GHT) turbine-generator unit with a nameplate capacity of 45 kilowatts (kW); (4) a new 25 kW floating turbine-generator unit situated at the end of a floating chute in the river approximately 500 feet downstream of the dam; (5) switchgear, controls, and ancillary systems housed on shore adjacent to the dam; and (6) a short transmission line connected to the NStar regional grid adjacent to the proposed project site. The estimated annual generation of the Moody Street Dam Project would be 615 megawatt-hours.

Applicant Contact: Mr. James Berk, Managing Member, Charles River Energy LLC, 27 Skinner's Path, Marblehead, Massachusetts 01945; phone: (781) 760-1600.

FERC Contact: John Ramer; phone: (202) 502-8969.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-14067-000) in the docket number field to access the document. For assistance, contact FERC Online Support.

Dated: February 3, 2011.
Kimberly D. Bose,
Secretary.

[FR Doc. 2011-2946 Filed 2-9-11; 8:45 am]

BILLING CODE 6717-01-P